CORPORATION FOR NATIONAL AND COMMUNITY SERVICE

Agency Information Collection Activities; Submission to the Office of Management and Budget for Review and Approval; Comment Request; NCCC Project Sponsor Survey

AGENCY: Corporation for National and Community Service.

ACTION: Notice of Information Collection; request for comment.

SUMMARY: The Corporation for National and Community Service, operating as AmeriCorps, has submitted a public information collection request (ICR) entitled NCCC Project Sponsor Survey for review and approval in accordance with the Paperwork Reduction Act.

DATES: Written comments must be submitted to the individual and office listed in the ADDRESSES section by February 27, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling the Corporation for National and Community Service, Michael Ketover, at 202-873-4574 or by email to mketover@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on November 15th, 2022 at Vol. FR 68470. This comment period ended January, 16, 2023. No public comments were received from this Notice.

Title of Collection: NCCC Project Sponsor Survey.

OMB Control Number: 3045-0190. Type of Review: Renewal.

Respondents/Affected Public: Businesses and Organizations.

Total Estimated Number of Annual Responses: 300.

Total Estimated Number of Annual Burden Hours: 99.

Abstract: The AmeriCorps NCCC Project Sponsor Survey is completed by organizations who have sponsored an AmeriCorps NCCC team. The information requested in the survey is used by AmeriCorps staff to collect feedback from project sponsors. AmeriCorps seeks to renew the current information collection without revisions. AmeriCorps also seeks to continue using the current application until the revised application is approved by OMB. The current application is due to expire on January 31, 2023.

Ken Goodson,
Director, AmeriCorps NCCC.

[FR Doc. 2023-01678 Filed 1-26-23; 8:45 am]

BILLING CODE 6050-28-P